DEPARTMENT OF TRANSPORTATION

Federal Aviation Administration

14 CFR Part 39

[Docket No. FAA-2012-0886; Directorate Identifier 2008-SW-067-AD]

RIN 2120-AA64

Airworthiness Directives; Agusta S.p.A. Helicopters

AGENCY: Federal Aviation Administration (FAA), DOT.

ACTION: Notice of proposed rulemaking (NPRM).

SUMMARY: We propose to adopt a new airworthiness directive (AD) for the Agusta S.p.A. (Agusta) Model AB139 and AW139 helicopters with a certain wire strike protection system (WSPS) top cable cutter assembly installed. This proposed AD is prompted by a report of in-flight contact between the top cable cutter assembly and two main rotor (M/R) blades. This proposed AD would require reworking or replacing the top cable-cutter assembly to increase clearance between the WSPS and the M/R blades. The proposed AD actions are intended to prevent damage to the M/R blades and subsequent loss of helicopter control.

DATES: We must receive comments on this proposed AD by October 29, 2012.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket: You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact Agusta, Via Giovanni Agusta, 520 21017 Cascina Costa di Samarate (VA), Italy, telephone 39 0331-229111, fax 39 0331-229605/222595, or at http://customersupport.agusta.com/technical_advice.php. You may review a copy of the referenced service information at the FAA, Office of the Regional Counsel, Southwest Region, 2601 Meacham Blvd., Room 663, Fort Worth, Texas 76137.

FOR FURTHER INFORMATION CONTACT: Sharon Miles, Aviation Safety Engineer, Regulations and Policy Group, Rotorcraft Directorate, FAA, 2601 Meacham Blvd., Fort Worth, TX 76137; telephone (817) 222-5110; email sharon.y.miles@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Union, has issued EASA AD No. 2008-0148, dated August 5, 2008, to correct the unsafe condition for these Agusta helicopters with a top cable cutter assembly, part number (P/N) 423-83001-1, which is part of the WSPS, P/N 4G9540F00211 or P/N 4G9540F00311. An incident of in-flight contact between the top cable cutter assembly and two M/R blades has been reported. Our proposed AD actions are intended to prevent damage to the M/R blades and subsequent loss of helicopter control.

FAA's Determination

These helicopters have been approved by the aviation authority of Italy and are approved for operation in the United States. Pursuant to our bilateral agreement with Italy, EASA, its technical representative, has notified us of the unsafe condition described in its AD. We are proposing this AD because we evaluated all known relevant information and determined that an unsafe condition is likely to exist or develop on other products of these same type designs.

Related Service Information

We reviewed Agusta Bollettino Tecnico No. 139-126, dated June 20, 2008 (BT), which applies to Model AB139 and AW139 helicopters with certain serial-numbered wire strike protection systems. The BT specifies, within 200 flight hours, reworking the top cable cutter assembly and marking it with “BT 139-126 Rev./” in a visible and permanent manner. EASA classified this BT as mandatory and issued AD No. 2008-0148 to ensure the continued airworthiness of these helicopters.

Proposed AD Requirements

This proposed AD would require:

• Within 200 hours time-in-service, removing the WSPS upper installation, P/N 4G9540A00111, including cutter assembly, P/N 423-83001-1.

• Before installing a WSPS upper installation, P/N 4G9540A00111, either:

○ Reworking the top cable cutter assembly, P/N 423-83001-1, in accordance with portions of BT No. 139-126; or

○ Replacing the top cable cutter assembly, P/N 423-83001-1, with an airworthy top cable cutter assembly.

Differences Between This Proposed AD and the EASA AD

The EASA AD requires marking the reworked top cable-cutter assembly, and this proposed AD does not.

Costs of Compliance

We estimate that this proposed AD would affect about 39 helicopters of U.S. registry. We also estimate that it would take about three work-hours per helicopter to rework the top cable-cutter assembly, one work-hour to replace the top cable-cutter assembly, and one work-hour to remove the WSPS upper installation. The average labor rate is $85 per work-hour. Required parts would cost about $9,000 per helicopter to replace the cutter. Based on these figures, we estimate the cost of the proposed AD on U.S. operators would be $255 per helicopter to rework the top cable-cutter assembly, $9,085 per helicopter to replace the top cable-cutter assembly, and $85 per helicopter to remove the WSPS.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by Reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Agusta S.p.A Helicopters (Agusta): Docket No. FAA-2012-0886; Directorate Identifier 2008-SW-067-AD.

(a) Applicability

This AD applies to Agusta Model AB139 and AW139 helicopters, with a wire strike protection system (WSPS) top cable cutter assembly, part number (P/N) 423-83001-1, installed, which is part of the WSPS, P/N 4G9540F00211 or P/N 4G9540F00311, certificated in any category.

(b) Unsafe Condition

This AD defines the unsafe condition as in-flight contact between the top cable cutter assembly and main rotor (M/R) blades. This condition could result in damage to the M/R blades and subsequent loss of helicopter control.

(c) Compliance

You are responsible for performing each action required by this AD within the specified compliance time unless it has already been accomplished prior to that time.

(d) Required Actions

(1) Within 200 hours time-in-service, remove the WSPS upper installation, P/N 4G9540A00111, including top cable cutter assembly, P/N 423-83001-1.

(2) Before installing a WSPS upper installation, P/N 4G9540A00111, either:

(i) Rework the top cable cutter assembly, P/N 423-83001-1, in accordance with the Compliance Instructions, paragraph 3.1 through 3.5, and Figure 1 of Agusta Bolletino Technico No. 139-126, dated June 20, 2008; or

(ii) Replace the top cable cutter assembly, P/N 423-83001-1, with an airworthy top cable cutter assembly.

(e) Alternative Methods of Compliance (AMOC)

(1) The Manager, Safety Management Group, FAA, may approve AMOCs for this AD. Send your proposal to: Sharon Miles, Aviation Safety Engineer, Regulations and Policy Group, Rotorcraft Directorate, FAA, 2601 Meacham Blvd., Fort Worth, TX 76137; telephone (817) 222-5110; email sharon.y.miles@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(f) Additional Information

(1) For service information identified in this AD, contact Agusta, Via Giovanni Agusta, 520 21017 Cascina Costa di Samarate (VA), Italy, telephone 39 0331-229111, fax 39 0331-229605/222595, or at http://customersupport.agusta.com/technical_advice.php. You may review a copy of the service information at the FAA, Office of the Regional Counsel, Southwest Region, 2601 Meacham Blvd., Room 663, Fort Worth, Texas 76137.

(2) The subject of this AD is addressed in European Aviation Safety Agency (EASA) AD No. 2008-0148, dated August 5, 2008.

(g) Subject

Joint Aircraft Service Component (JASC) Code: 5320: Fuselage Miscellaneous Structure.

Issued in Fort Worth, Texas, on August 16, 2012.
Kim Smith,
Manager, Rotorcraft Directorate, Aircraft Certification Service.

[FR Doc. 2012-21285 Filed 8-28-12; 8:45 am]

BILLING CODE 4910-13-P